DEPARTMENT OF COMMERCE

National Oceanic and Atmospheric Administration

RIN 0648-XD931

North Pacific Fishery Management Council; Public Meeting

AGENCY: National Marine Fisheries Service (NMFS), National Oceanic and Atmospheric Administration (NOAA), Commerce.

ACTION: Notice of a public meeting.

SUMMARY: The North Pacific Fishery Management Council (Council) Observer Advisory Committee (OAC) will meet in Anchorage, AK.

DATES: The meeting will be held on May 29, 2015, from 8 a.m. to 5 p.m.

ADDRESSES: The meeting will be held at the Coast International Inn, 3450 Aviation Avenue, Susitna room, Anchorage, AK.

Council address: North Pacific Fishery Management Council, 605 W. 4th Ave., Suite 306, Anchorage, AK 99501-2252.

FOR FURTHER INFORMATION CONTACT: Diana Evans, Council staff; telephone: (907) 271-2809.

SUPPLEMENTARY INFORMATION: The agenda will be to discuss and provide recommendations on the observer program review documents (supplemental Environmental Assessment, 2014 Observer Annual Report) and observer regulatory amendment analyses. The Agenda is subject to change, and the latest version will be posted at http://www.npfmc.org/.

Special Accommodations

The meeting is physically accessible to people with disabilities. Requests for sign language interpretation or other auxiliary aids should be directed to Gail Bendixen at (907) 271-2809 at least 7 working days prior to the meeting date.

Dated: May 8, 2015.
Tracey L. Thompson,
Acting Deputy Director, Office of Sustainable Fisheries, National Marine Fisheries Service.

[FR Doc. 2015-11570 Filed 5-12-15; 8:45 am]

BILLING CODE 3510-22-P